DEPARTMENT OF THE INTERIOR

Bureau of Land Management

[WY920-1430FM, WYW148816]

Notice of availability of a Final Environmental Impact Statement on the Proposed Pittsburg and Midway Coal Mining Company Coal Exchange

AGENCY: Bureau of Land Management, Interior. Cooperating Agencies—Forest Service, Agriculture; Office of Surface Mining, Interior.

ACTION: Notice of Availability of a Final Environmental Impact Statement (FEIS) on the proposed Pittsburg and Midway Coal Mining Company Coal Exchange; Lincoln, Carbon, and Sheridan Counties, Wyoming.

SUMMARY: Under the National Environmental Policy Act (NEPA), the Federal Policy and Management Act of 1976 (FLPMA) and associated regulations, the Bureau of Land Management (BLM) announces the availability of a FEIS that evaluates, analyzes, and discloses to the public direct, indirect, and cumulative environmental impacts of a proposed land-for-coal exchange between the Pittsburg and Midway (P&M) Coal Mining Company, the USDA Forest Service Bridger-Teton National Forest, and the Wyoming BLM, (Serial Number WYW148816).

The FEIS analyzes a proposal made by P&M to exchange approximately 5,859 acres of privately owned surface and coal resources for an amount of Federal coal of approximately equal value underlying privately owned lands. For all, or some portion, of an estimated 107 million tons of Federal coal in Sheridan County, Wyoming, P&M would exchange to the United States private land and mineral resources in Lincoln, Carbon, and Sheridan Counties, Wyoming. The USDA Forest Service and the Office of Surface Mining are cooperating agencies.

DATES: Comments on the FEIS will be accepted for 30 days following the date that the Environmental Protection Agency (EPA) publishes their notice of availability of the FEIS in the Federal Register. The BLM asks that those submitting comments on the FEIS make them as specific as possible with reference to page numbers and chapters of the document. Comments that contain only opinions, or preferences, will not receive a formal response, however, they will be considered, and included, as part of the BLM decision-making process. Comments, including names and street addresses of respondents, will be available for public review at the Bureau of Land Management, Casper Field Office, 2987 Prospector Drive, Casper, Wyoming, during regular business hours (8 a.m. to 4:30 p.m.), Monday through Friday, except holidays, and may be published as part of the Final EIS.

ADDRESSES: Please address questions, comments, or requests for copies of the FEIS to the Casper Field Office, Bureau of Land Management, Attn: Nancy Doelger, 2987 Prospector Drive, Casper, Wyoming 82604; or you may mail them electronically to the attention of Nancy Doelger at casper_wymail@blm.gov; or fax them to (307) 261-7587. A copy of the FEIS has been sent to affected Federal, State, local government agencies, and to those persons who responded to the BLM indicating that they wished to receive a copy of the FEIS. Copies of the FEIS are available for public inspection at the following BLM and USDA Forest Service office locations:

• Bureau of Land Management, Wyoming State Office, 5353 Yellowstone Road, Cheyenne, WY 82009

• Bureau of Land Management, Casper Field Office, 2987 Prospector Drive, Casper, WY 82604-2968

• Bureau of Land Management, Pinedale Field Office, 432 E. Mill Street, Pinedale, WY 82941

• Bureau of Land Management, Rawlins Field Office, 1300 N. Third Street, Rawlins, WY 82301

• USDA Forest Service, Intermountain Region, 324 25th Street, Ogden, UT 84401

• USDA Bridger-Teton National Forest, Kemmerer Ranger District, 308 Highway 189 North, Kemmerer, WY 83101

• Bureau of Land Management, Buffalo Field Office, 1425 Fort Street, Buffalo, WY 82834

FOR FURTHER INFORMATION CONTACT: Nancy Doelger or Mike Karbs at the above Casper Field Office address, or telephone: (307) 261-7600.

SUPPLEMENTARY INFORMATION: The FEIS analyzes a proposal by P&M to exchange privately owned land and some mineral resources for Federal coal. The proposed exchange includes the surface and mineral estate on the parcels that would become Federal estate administered by the USDA Forest Service, Bridger-Teton National Forest (BTNF), (2,447.88 acres); and on 638.37 acres to be administered by BLM and adjacent to the BTNF. BLM would acquire 2,772.25 acres of surface to be administered in the Rawlins and Buffalo Field Offices and 807.69 acres of coal to be administered by the Buffalo Field Office. A description of the lands and resources offered to the United States Government by P&M and the tract of Federal coal selected by P&M follows.

Bridger Lands, Lincoln County, Wyoming

Of the parcels north of Kemmerer, Wyoming, known as “the Bridger Lands,” approximately 2,447 acres are inholdings within in the administrative boundaries of the Bridger-Teton National Forest, Kemmerer Ranger District, Wyoming. The addition of this acreage to the National Forest System (NFS) would be consistent with, and managed under, the Bridger-Teton National Forest Land and Resource Management Plan, (1990). This would also be consistent with USDA Forest Service national policy to acquire private in-holdings whenever possible to facilitate management and administration of NFS lands and resources. Acquisition of these parcels would be beneficial to wildlife species, would increase public recreation opportunities, and protect surrounding NFS lands from the impacts of human development.

The remaining parcels in Lincoln County are located outside of, and immediately adjacent to the Bridger-Teton National Forest and are contiguous to the 2,447 acres that would become part of NFS lands. The approximately 638 acres are due west of LaBarge, Wyoming, and would become public lands administered by the BLM, Pinedale Field Office. If the exchange is completed and BLM acquires the 638 acres of land, the Pinedale Resource Management Plan (1988) would be maintained to extend existing management direction to the Bridger Lands.

Lands and Surface Resources To Be Administered by USDA Forest Service

6th Principal Meridian, Wyoming

T. 26 N., R. 116 W.,

Tracts 39, 41, and 42.

T. 26 N., R. 117 W.,

Tracts 37-43

T. 27 N., R. 117 W.,

Tracts 37-42.

Containing 2,447.88 acres more or less.

Lands and Minerals To Be Administered by BLM

6th Principal Meridian, Wyoming

T. 26 N., R. 115 W.,

Tracts 49, 57, and 71.

Containing 638.37 acres more or less.

JO Ranch Lands, Carbon County, Wyoming

P&M is offering the parcel (1,233.55 acres) known as the “JO Ranch Lands” to the United States Government. The JO Ranch Lands are southwest of Rawlins, Wyoming. Cow Creek, an ephemeral drainage that drains the west foothills of the Sierra Madre Mountains, flows through the JO Ranch Lands. This section of Cow Creek has riparian grassland habitat, and provides mule deer and elk crucial winter range. The JO Ranch Lands also include the JO Ranch or Rankin Ranch buildings, which are eligible for National Historic Site status. The JO Ranch Lands offered by P&M are surrounded by public lands and resources administered by the BLM Rawlins Field Office. If the exchange is completed and BLM acquires these lands, the Great Divide Resource Management Plan, (1990) would be maintained to extend existing management direction to the 1,233.55 acres of JO Ranch Lands.

Because P&M does not own, and therefore cannot offer, any of the mineral estate underlying the JO Ranch lands, the subsurface estate and its resources would remain in private ownership.

Lands To Be Administered by BLM

6th Principal Meridian, Wyoming

T. 16 N., R. 90 W.,

Sec. 6, lots 20, 23, 24, 27, NE¼SW¼;

Sec. 17, SW¼SW¼;

Sec. 18, NE¼SE¼;

Tract 46.

T. 16 N., R. 91 W.,

Sec. 12, NE¼NE¼, SW¼NE¼, SW¼SW¼, E½SW¼, W½ SE¼;

Sec. 13, W½NW¼, SE¼NW¼, NW¼SW¼;

Sec. 14, SE¼NE¼, NE¼SE¼, S½SE¼;

Sec. 22, SE¼SE¼, SE¼SE¼, SW¼SE¼;

Sec. 23, W½NE¼, S½NW¼, N1/24SW¼, SW¼SW¼

Containing 1,233.55 acres more or less.

Welch Ranch Lands, Sheridan County, Wyoming

P&M is offering the United States Government the Welch Ranch parcel, approximately (1,538.70 acres). Approximately 1.5 miles of Tongue River frontage would be included. The Tongue River area of the “Welch Lands” contains significant wildlife and fisheries habitat and would provide the public access to the Tongue River and these resources. The Welch Lands are surrounded by private lands and private and Federal minerals that are administered by the BLM Buffalo Field Office. In addition to the identified Welch Lands, the United States Government would acquire ownership of about 807.69 acres of the coal estate currently owned by P&M. Upon acquisition, the coal would be administered by the BLM Buffalo Field Office. If the exchange is completed and the Welch Lands become public lands, BLM will prepare a site-specific plan for the 1,538.70 acres of Welch Ranch Lands that would amend the Buffalo Resource Management Plan (1985, updated 2001).

Lands To Be Administered by BLM

6th Principal Meridian, Wyoming

T. 57 N., R. 84 W.,

Sec. 1, S½NE¼, SE¼NW¼, N½SW¼, SW¼SW¼;

Sec. 2, lots 2, 3, S½N½, S½;

Sec. 3, lots 3, 4, S½N½, N½S½, SE¼SE¼;

Sec. 4, lots 1-4, S½NE¼, SE¼NW¼, N½SE¼.

Containing approximately 1,538.7 acres more or less.

Minerals To Be Administered by BLM

P&M owns and is offering to exchange the coal estate underlying the following lands:

6th Principal Meridian, Wyoming

T. 57 N., R. 84 W.,

Sec. 1, S½NE¼ (excluding 25.51 acres), SE¼NW¼, N½SW¼ (excluding 1.2 acres);

Sec. 2, S½NW¼, S½ (excluding 5.6 acres);

Sec. 3, S½NE¼, SE¼NW¼, N½SE¼, SE¼SE¼.

Containing 807.69 acres, more or less.

P&M does not own, and is not offering, to exchange any other mineral rights underlying the Welch lands.

In exchange for the above described lands, P&M proposes to acquire some portion of the Federal coal in the PSO Tract, described below. There are 6.41 acres of publicly owned surface estate included in the PSO Tract, which is not included in the exchange proposal. The remainder of the surface estate included in the tract is privately owned, primarily by P&M.

PSO Tract, Sheridan County, Wyoming

The Federal coal that P&M is proposing to acquire is located immediately north of the Welch Ranch, underlying mostly P&M's private surface (“PSO Tract”) in Sheridan County. The Federal coal is found in two mineable coal seams, the Dietz 1, and Dietz 3. Recent exploration samples indicate that the Dietz 1 coal seam has an average BTU value of 9,279, and that the Dietz 3 has an average BTU value of 9,352. Up to approximately 107 million tons of Federal coal may be exchanged depending on the final appraised value of both the land and coal resources that the United States Government would receive from P&M, and the value of the Federal coal.

The legal description of the Federal coal being considered for exchange is as follows:

6th Principal Meridian, Wyoming

T. 58 N., R. 84 W.,

Sec. 15, lot 1;

Sec. 20, SE¼;

Sec. 21, E½NE¼, S½;

Sec. 22, NW¼, W½SW¼;

Sec. 23, lots 3 and 4;

Sec. 27, W½NW¼, W½SW¼;

Sec. 28, All;

Sec. 29, NE¼, NE¼SE¼;

Sec. 33, N½NE¼;

Sec. 34, SW¼NE¼, NW¼NW¼.

Containing 2,045.53 acres more or less.

The FEIS evaluates the site-specific and cumulative environmental impacts of exchanging the land and coal resources offered by P&M for Federal coal. P&M proposes to mine the coal in the PSO Tract if the exchange is completed as proposed and they acquire ownership of the coal resources in the Tract. Therefore, the FEIS considers the environmental impacts of mining the Federal coal as a possible consequence of executing the proposed exchange. If the land-for-coal exchange is approved, neither the Record of Decision (ROD) nor the Final EIS would constitute authorization for commencement of mining operations.

Before land exchanges can be approved, they must meet two criteria: The exchange must be in the public interest as required under 43 CFR 2200.0-6(b); and the value of the interests being exchanged must be equal as required under 43 CFR 2200.0-6(c). This environmental analysis is being prepared as required under 43 CFR 2200.0-6(h). It will be used as a supporting study in making a determination as to whether this exchange is in the public interest. Following completion of this environmental analysis but prior to the issuance of ROD, a public meeting will be held to receive public comment on the public interest factors of the proposed exchange as required under 43 CFR 2203.3.

Both the USDA Forest Service and USDI BLM national land exchange review boards have technically reviewed P&M's proposal to exchange land for coal. Prior to a decision to approve, or disapprove, the exchange following the public interest determination meeting, the exchange will be subject to final review by each agency's national land exchange board, and the BLM Director, as well as the Department of Justice.

The FEIS analysis assumes that all the Federal coal within the PSO Tract as proposed by P&M would be exchanged for all of the lands being offered by P&M. In accordance with 43 CFR 2200 the actual amount of Federal coal offered for exchange would be the amount required to equal the value of the lands offered to the United States Government by P&M. To ensure that the lands, or interests, being exchanged are of equal value, the fair market value of the respective properties must be evaluated. In this case, the fair market value of the P&M lands will be determined through a fee appraisal by a BLM-approved qualified appraiser. BLM will determine the fair market value of the Federal coal. An independent contract appraiser will review all appraisals.

The EIS analyzes two alternatives, the Proposed Action and Alternative 1, No Action. Under the Proposed Action, the exchange would be completed and the Bridger, JO Ranch, and Welch Lands would become Federal lands administered by the USDA Forest Service and BLM. BLM is considering several options to the Proposed Action that would modify the Welch Lands to exclude an active underground coal seam fire on those lands. Under the proposed action, or any option, P&M would acquire an amount of Federal coal underlying the PSO Tract that would be equal in value to the Bridger, JO Ranch, and Welch Lands. Alternative 1 is the No Action Alternative, which assumes that the proposal to exchange would be rejected.

Agency-Preferred Alternative: The BLM's preferred alternative is the Proposed Action. Because the Bridger Lands in Lincoln County include most of the remaining parcels of private land within the Bridger-Teton National Forest, Kemmerer Ranger District, the USDA Forest Service is a cooperating agency in the preparation of this FEIS. The USDA Forest Service's preferred alternative is the Proposed Action.

The Office of Surface Mining Reclamation and Enforcement (OSM) is an additional cooperating agency. OSM has primary responsibility to administer programs that regulate surface coal mining and the surface effects of underground coal mining operations. If the exchange is completed, the coal would no longer be Federally owned, however; OSM would retain some oversight responsibilities for the regulation of the proposed surface coal mine.

Land Use Plans

If the exchange is completed, the United States Government would acquire ownership of the lands and minerals offered by P&M for exchange. At that time, the USDA Forest Service would use the analysis documented in this FEIS to revise the land ownership status maps and extend management direction to the Bridger Lands that would become NFS lands. The BLM would use the analyses documented in this FEIS to maintain the Pinedale RMP and Rawlins RMP to extend management direction to the Bridger Lands and JO Ranch Lands that would become public land. The Buffalo Field Office would use the analyses to identify the isolated parcel (the Welch Ranch Lands) as public lands administered by the BLM under the Buffalo RMP. In addition, Buffalo Field Office intends to use the analysis to prepare a site-specific plan for the Welch Lands to amend the BLM Buffalo RMP (1985, amended 2001).

Individual respondents may request confidentiality. If you wish to withhold your name or street address from public review or from disclosure under the Freedom of Information Act, you must state this prominently at the beginning of your written comment. Such requests will be honored to the extent allowed by law. All submission from organizations or businesses, and from individuals identifying themselves as representatives of officials of organizations or businesses, will be made available for public inspection in their entirety.

Dated: June 11, 2003.
Robert A. Bennett,
State Director.

[FR Doc. 03-21636 Filed 8-21-03; 8:45 am]

BILLING CODE 4310-22-P